DEPARTMENT OF THE INTERIOR

National Park Service

[DOI-2024-0015; PPWOWMADH8 PPMPSAS1Y.YH0000]

Privacy Act of 1974; System of Records

AGENCY: National Park Service, Interior.

ACTION: Rescindment of a system of records notice.

SUMMARY: The Department of the Interior (DOI) is issuing a public notice of its intent to rescind the National Park Service (NPS) Privacy Act system of records, INTERIOR/NPS-5, Retirement Record, from its existing inventory.

DATES: These changes take effect on December 18, 2024.

ADDRESSES: You may send comments identified by docket number [DOI-2024-0015] by any of the following methods:

• Federal eRulemaking Portal: https://www.regulations.gov. Follow the instructions for sending comments.

• Email: DOI_Privacy@ios.doi.gov. Include docket number [DOI-2024-0015] in the subject line of the message.

• U.S. mail or hand-delivery: Teri Barnett, Departmental Privacy Officer, U.S. Department of the Interior, 1849 C Street NW, Room 7112, Washington, DC 20240.

Instructions: All submissions received must include the agency name and docket number [DOI-2024-0015]. All comments received will be posted without change to https://www.regulations.gov, including any personal information provided.

Docket: For access to the docket to read background documents or comments received, go to https://www.regulations.gov.

You should be aware your entire comment including your personally identifiable information, such as your address, phone number, email address, or any other personal information in your comment, may be made publicly available at any time. While you may request to withhold your personally identifiable information from public review, we cannot guarantee we will be able to do so.

FOR FURTHER INFORMATION CONTACT: (1) Monica E. Holguin, Chief, Retirement & Benefits Branch, National Park Service, 7175 West Jefferson Avenue, Lakewood CO 80235, mholguingutierrez@nps.gov or 720-417-3154 or (2) Felix Uribe, Associate Privacy Officer, National Park Service, 12201 Sunrise Valley Drive, Reston, VA 20192, nps_privacy@nps.gov or 202-354-6925.

SUPPLEMENTARY INFORMATION: Pursuant to the provisions of the Privacy Act of 1974, as amended, 5 U.S.C. 552a, the DOI is rescinding the INTERIOR/NPS-5, Retirement Record, system of records notice (SORN) and removing it from its system of records inventory. The primary purpose of the system of records was to maintain employees' Federal employment history and retirement contributions. During a review of NPS SORNs, it was determined that this notice is no longer necessary as the records in the system are covered under the Department-wide SORN, INTERIOR/DOI-85, Payroll, Attendance, Retirement, and Leave Records, 83 FR 34156 (July 19, 2018). Therefore, DOI is rescinding the INTERIOR/NPS-5, Retirement Record, SORN to eliminate an unnecessary duplicate notice and ensure compliance with the Privacy Act of 1974 and Office of Management and Budget Circular A-108, Federal Agency Responsibilities for Review, Reporting, and Publication under the Privacy Act. Rescinding the INTERIOR/NPS-5, Retirement Record, SORN will have no adverse impact on individuals as the records are covered under the INTERIOR/DOI-85, Payroll, Attendance, Retirement, and Leave Records, SORN. This rescindment will also promote the overall streamlining and management of DOI Privacy Act systems of records.

SYSTEM NAME AND NUMBER:

INTERIOR/NPS-5, Retirement Record.

HISTORY:

48 FR 51699 (November 10, 1983); modification published at 73 FR 63992 (October 28, 2008).

Teri Barnett,
Departmental Privacy Officer, U.S. Department of the Interior.

[FR Doc. 2024-29908 Filed 12-17-24; 8:45 am]

BILLING CODE 4312-52-P